OFFICE OF GOVERNMENT ETHICS

Updated OGE Senior Executive Service Performance Review Board

AGENCY: Office of Government Ethics (OGE).

ACTION: Notice.

SUMMARY: Notice is hereby given of the appointment of a member to the OGE Senior Executive Service (SES) Performance Review Board.

DATES: September 27, 2021.

FOR FURTHER INFORMATION CONTACT: Shelley K. Finlayson, Chief of Staff and Program Counsel, Office of Government Ethics, Suite 500, 1201 New York Avenue NW, Washington, DC 20005-3917; Telephone: 202-482-9300; TYY: 800-877-8339; FAX: 202-482-9237.

SUPPLEMENTARY INFORMATION: 5 U.S.C. 4314(c) requires each agency to establish, in accordance with regulations prescribed by the Office of Personnel Management at 5 CFR part 430, subpart C and 430.310 thereof in particular, one or more Senior Executive Service performance review boards. As a small executive branch agency, OGE has just one board. In order to ensure an adequate level of staffing and to avoid a constant series of recusals, the designated members of OGE's SES Performance Review Board are being drawn, as in the past, in large measure from the ranks of other executive branch agencies. The board shall review and evaluate the initial appraisal of each OGE senior executive's performance by his or her supervisor, along with any recommendations in each instance to the appointing authority relative to the performance of the senior executive. This notice updates the membership of OGE's SES Performance Review Board as it was most recently published at 84 FR 44898 (August 27, 2019).

Approved: September 22, 2021.
Emory A. Rounds, III,
Director, U.S. Office of Government Ethics.

Due to the retirement from government service of David Maggi, the following official has been appointed to the SES Performance Review Board of the Office of Government Ethics: Sean Dent, Senior Deputy General Counsel and Designated Agency Ethics Official, Federal Housing Finance Agency. The remaining Board members are Shelley K. Finlayson (Chair), Chief of Staff and Program Counsel, Office of Government Ethics; Kathleen Silbaugh, General Counsel, Office of the General Counsel, National Transportation and Safety Board; and Peter J. Constantine, Associate Solicitor for Legal Counsel, Office of the Solicitor, Department of Labor.

[FR Doc. 2021-20888 Filed 9-24-21; 8:45 am]

BILLING CODE 6345-03-P